NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by June 1, 2012. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application: 2013-003

1. Applicant: Steven D. Emslie, Department of Biology and Marine Biology, University of North Carolina, Wilmington, NC 28403.

Activity for Which Permit Is Requested

Take, and Enter Antarctic Specially Protected Areas (ASPA's), The applicant plans to enter ASPA 102—Rookery Islands; ASPA 103—Ardery and Odbert Islands; ASPA 104—Sabrina Island; ASPA 105 Beaufort Island; ASPA 106 Cape Hallett; ASPA 107—Dion Islands; ASPA 108—Green Island; ASPA 109- Moa Island; ASPA 110—Lynch Island; ASPA 111—Southern Powell Island; ASPA 112—Coopermine Peninsula; ASPA 113—Litchfield Island; ASPA 114—North Coronation Island; ASPA 115—Lagotellerie Island; ASPA 116—New College Valley, Caughley Beach, Cape Bird; ASPA 117—Avian Island; ASPA 121—Cape Royds; ASPA 124—Cape Crozier; ASPA 125—Fildes Peninsula; ASPA 126—Byers Peninsula; ASPA 127—Haswell Island; ASPA 128—Western Shore of Admiralty Bay; ASPA 129—Rothera Point, Adelaide Island; ASPA 132—Potter Peninsula; ASPA 133—Harmony Point, Nelson Island; ASPA 134 Cierva Point, Danco Coast; SPA 135—Bailey Peninsula; ASPA 136—Clark Peninsula; ASPA 139—Biscoe Point, Anvers Island; ASPA 143—Marine Plain, Mule Peninsula; ASPA 149—Cape Shirreff; ASPA 150—Ardley Island; ASPA 158—Cape Adare; ASPA 160—Cape Geology; and, ASPA 171—Narebski Point. Access to these sites will be on an opportunistic basis. The applicant plans to conduct surveys and excavations of modern and abandoned penguin colonies. Ice-free areas will be surveyed on foot to locate evidence of breeding colony (pebbles and/or bone concentrations, rich vegetation). These sites will be sampled by placing a test pit, no more than 1 x 1m in size, and excavating in 5-10 cm levels until bedrock or non-ornithogenic are encountered. Upon completion of the excavation, test pits will be refilled and any vegetation disturbed on the surface will be replaced. Collected sediment will be taken to the laboratory for processing. These sediments will be washed through fine-mesh screens; all organic remains will be sorted and preserved for identification and analysis.

The applicant also plans to salvage whole or partial specimens, up to 10 of each species, of Antarctic seabirds and whole eggs that are found dead on beaches and at colonies. All of these specimens will be shipped to the home institution for identification and analysis.

Location

ASPA 102—Rookery Islands; ASPA 103—Ardery and Odbert Islands; ASPA 104—Sabrina Island; ASPA 105 Beaufort Island; ASPA 106 Cape Hallett; ASPA 107—Dion Islands; ASPA 108—Green Island; ASPA 109- Moa Island; ASPA 110—Lynch Island; ASPA 111—Southern Powell Island; ASPA 112—Coopermine Peninsula; ASPA 113—Litchfield Island; ASPA 114—North Coronation Island; ASPA 115—Lagotellerie Island; ASPA 116—New College Valley, Caughley Beach, Cape Bird; ASPA 117—Avian Island; ASPA 121—Cape Royds; ASPA 124—Cape Crozier; ASPA 125—Fildes Peninsula; ASPA 126—Byers Peninsula; ASPA 127—Haswell Island; ASPA 128—Western Shore of Admiralty Bay; ASPA 129—Rothera Point, Adelaide Island; ASPA 132—Potter Peninsula; ASPA 133—Harmony Point, Nelson Island; ASPA 134 Cierva Point, Danco Coast; SPA 135—Bailey Peninsula; ASPA 136—Clark Peninsula; ASPA 139—Biscoe Point, Anvers Island; ASPA 143—Marine Plain, Mule Peninsula; ASPA 149—Cape Shirreff; ASPA 150—Ardley Island; ASPA 158—Cape Adare; ASPA 160—Cape Geology; and, ASPA 171—Narebski Point.

DATES: October 1, 2012 to September 30, 2017.

Nadene G. Kennedy,
Permit Officer, Office of Polar Programs.

[FR Doc. 2012-10490 Filed 5-1-12; 8:45 am]

BILLING CODE 7555-01-P